DEPARTMENT OF TRANSPORTATION

Surface Transportation Board

[STB Finance Docket No. 34072]

Southwestern Railroad Company, Inc.—Acquisition, Lease, and Operation Exemption—The Burlington Northern and Santa Fe Railway Company

Southwestern Railroad Company, Inc. (SWRR), a Class III rail carrier, has filed a verified notice of exemption under 49 CFR 1150.41 to acquire and operate approximately 5.7 miles of rail line and to lease and operate approximately 54 miles of rail line owned by The Burlington Northern and Santa Fe Railway Company. The line being acquired is located between milepost 5+3763 feet, near Peruhill, NM, and milepost 0.0, at Deming, NM. The line being leased is located between milepost 1134, at Deming, and milepost 1080, at Rincon, NM.¹

¹ SWRR certifies that its projected revenues as a result of this transaction will not result in its becoming a Class II or Class I rail carrier, and further certifies that its projected annual revenues will not exceed $5 million.

The transaction was expected to be consummated on or shortly after September 7, 2001, the effective date of the exemption.

If the verified notice contains false or misleading information, the exemption is void ab initio. Petitions to revoke the exemption under 49 U.S.C. 10502(d) may be filed at any time. The filing of a petition to revoke will not automatically stay the transaction.

An original and 10 copies of all pleadings, referring to STB Finance Docket No. 34072, must be filed with the Surface Transportation Board, Office of the Secretary, Case Control Unit, 1925 K Street, NW., Washington, DC 20423-0001. In addition, one copy of each pleading must be served on Karl Morell, Ball Janik, LLP, 1455 F Street, NW., Suite 225, Washington, DC 20005.

Board decisions and notices are available on our website at www.stb.dot.gov.

Decided: September 14, 2001.
By the Board, David M. Konschnik, Director, Office of Proceedings.
Vernon A. Williams,
Secretary.

[FR Doc. 01-23499 Filed 9-20-01; 8:45 am]

BILLING CODE 4915-00-M